DEPARTMENT OF ENERGY

Submission for OMB Review: Comment Request

AGENCY: Department of Energy.

ACTION: Agency Information Collection Extension.

SUMMARY: The Department of Energy (DOE) has submitted information collection package 1910-5112, Chronic Beryllium Disease Prevention to the Office of Management and Budget (OMB) for extension under the Paperwork Reduction Act of 1995. The package covers the collection of information from DOE and DOE contractors that are subject to the Department's Chronic Beryllium Disease Prevention Program (10 CFR part 850). The regulations contained in the Chronic Disease Prevention Program have been promulgated under authority in the Atomic Energy Act of 1954, and the Department of Energy Organization Act.

DATES: Comments regarding this collection of information should be sent on or before April 3, 2003. If you anticipate that you will be submitting comments, but find it difficult to do so within the period of time allowed by this notice, you should advise the OMB Desk Officer of your intention to do so as soon as possible. The Desk Officer may be telephoned at (202) 395-3087. (Also, please notify the DOE contact listed in this notice.)

ADDRESSES: Address comments to DOE Desk Officer, Office of Information and Regulatory Affairs (OIRA), Office of Management and Budget, Docket Library, Room 10102, New Executive Office Building, 725 17th Street, NW., Washington, DC 20503. Comments should also be addressed to the Records Management Division, Office of the Chief Information Officer, at the address listed below.

FOR FURTHER INFORMATION CONTACT: Requests for additional information should be directed to Susan L. Frey, Director, Records Management Division, Office of Business and Information Management, Office of the Chief Information Officer, IM-11/GTN Building, U.S. Department of Energy, 1000 Independence Ave., SW., Washington, DC 20585-1290, (301)-903-3666, or E-mail susan.frey@hq.doe.gov. (Also notify Jacqueline D. Rogers, Office of Environment, Safety and Health, EH-5/270CC, U.S. Department of Energy, 1000 Independence Ave., SW., Washington, DC 20585-1290 (301-903-5684).)

SUPPLEMENTARY INFORMATION: (1) Current OMB Control Number: 1910-5112 (2) Package Title: Chronic Beryllium Disease Prevention Program (3) Summary: A three-year extension is requested to provide DOE employers with the information needed to manage chronic beryllium disease prevention programs, provide information to employees, and permit oversight of their programs by DOE management. (4) Purpose: This collection provides the Department with the information needed to reduce the number of workers currently exposed to beryllium in the course of their work at DOE facilities managed by DOE or its contractors; minimize the levels and potential exposure to beryllium; and provide medical surveillance to ensure early detection of disease. (5) Type of Respondents: DOE and DOE contractor employers of workers exposed or potentially exposed to beryllium; current workers. (6) Number of respondents: 1,703 annually; (7) Total annual burden hours: 32,952 hours.

Statutory Authority: Atomic Energy Act of 1954, 42 U.S.C. 2201.

Issued in Washington, DC on February 25, 2003.
Susan L. Frey,
Director, Records Management, Office of Business and Information Management, Office of the Chief Information Officer.

[FR Doc. 03-4992 Filed 3-3-03; 8:45 am]

BILLING CODE 6450-01-P